SMALL BUSINESS ADMINISTRATION

[Disaster Declaration #10482 and #10481]

Massachusetts Disaster Number MA-00006

AGENCY: Small Business Administration.

ACTION: Amendment 1.

SUMMARY: This is an amendment of the Presidential declaration of a major disaster for the Commonwealth of Massachusetts (FEMA-1642-DR) , dated 5/25/2006.

Incident: Severe Storms and Flooding.

Incident Period: 5/12/2006 and continuing through 5/23/2006.

Effective Date: 6/12/2006.

Physical Loan Application Deadline Date: 7/24/2006.

EIDL Loan Application Deadline Date: 2/26/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the Commonwealth of Massachusetts, dated 5/25/2006, is hereby amended to establish the incident period for this disaster as beginning 5/12/2006 and continuing through 5/23/2006.

All other information in the original declaration remains unchanged.

(Catalog of Federal Domestic Assistance Numbers 59002 and 59008.)

Herbert L. Mitchell,
Associate Administrator for Disaster Assistance.

[FR Doc. E6-9677 Filed 6-19-06; 8:45 am]

BILLING CODE 8025-01-P